DEPARTMENT OF COMMERCE

International Trade Administration

[A-570-910]

Amended Preliminary Determination of Sales at Less Than Fair Value: Circular Welded Carbon Quality Steel Pipe From the People's Republic of China

AGENCY: Import Administration, International Trade Administration, Department of Commerce.

EFFECTIVE DATE: April 24, 2008.

SUMMARY: On January 15, 2008, the Department published in the Federal Register its preliminary determination that circular welded carbon quality steel pipe (“CWP”) from the People's Republic of China (“PRC”) is being, or is likely to be, sold in the United States at less than fair value (“LTFV”), as provided in section 733 of the Tariff Act of 1930, as amended (“the Act”). See Circular Welded Carbon Quality Steel Pipe From the People's Republic of China: Notice of Preliminary Determination of Sales at Less Than Fair Value and Postponement of Final Determination, 73 FR 2445, 2451 (January 15, 2008) (“Preliminary Determination”). On April 7, 2008, Jiangsu Yulong Steel Pipe Co., Ltd, (“Yulong”), the only participating mandatory respondent remaining in this investigation, notified the Department that it was withdrawing from the proceeding. Based on the circumstances described below, the Department of Commerce (the “Department”) is amending the preliminary determination in the antidumping duty investigation of CWP from the PRC. This amended preliminary determination results in revised antidumping rates.

FOR FURTHER INFORMATION CONTACT: Thomas Martin, Import Administration, International Trade Administration, U.S. Department of Commerce, 14th Street and Constitution Avenue, NW., Washington, DC 20230; telephone: (202) 482-3936.

SUPPLEMENTARY INFORMATION:

Case History

On January 15, 2008, the Department published in the Federal Register the Preliminary Determination that CWP from the PRC is being, or is likely to be, sold in the United States at LTFV, as provided in section 733 of the Act. In the Preliminary Determination, the Department calculated a zero percent margin for Yulong, and included Yulong's zero percent preliminary margin in calculating the rate applied to the separate rate companies, and relied upon Yulong's individual sales margins in corroborating the rate assigned to the PRC-wide entity. See Preliminary Determination.

From January 28, 2008, through February 1, 2008, the Department conducted a verification of the U.S. sales and factors of production reported by Yulong. On February 27, 2008, the Department issued its verification report. See Memorandum from Thomas Martin and Maisha Cryor, International Trade Compliance Analysts, to the File, “Verification of the Sales and Factors Response of Jiangsu Yulong Steel Pipe Co., Ltd. (“Yulong”),” dated February 27, 2008.

We invited parties to comment on the Preliminary Determination. On March 12, 2008, the Petitioners,¹ Yulong, one separate rate applicant, and two U.S. importers of subject merchandise filed case briefs. On March 19, 2008, the Petitioners, Yulong, and one U.S. importer filed rebuttal briefs. On March 24, 2008, the Department held a public hearing.

¹ The Petitioners in this investigation are Allied Tube & Conduit, Sharon Tube Company, IPSCO Tubulars, Inc., Western Tube & Conduit Corporation, Northwest Pipe Company, Wheatland Tube Co., i.e., the Ad Hoc Coalition For Fair Pipe Imports From China, and the United Steelworkers.

On March 17, 2008, the Department received an unsolicited letter from the Director of a trading company registered in Hong Kong, referred to hereafter as Company X, in which it notified the Department that it had learned from industry sources that a PRC pipe producer involved in this investigation had claimed that it purchased hot-rolled steel coil for the production of merchandise subject to this investigation from Company X. See Memorandum from Abdelali Elouaradia, Office Director, to the File, “Phone Conversation With Trading Company,” dated March 27, 2008 (“Trading Company Memorandum”), at Attachment 1, which contains Company X's complaint letter. Company X claims it had learned that a PRC pipe producer submitted to the Department “fake” documents, including sales contracts, commercial invoices, packing lists, and mill test reports, under Company X's letterhead. Id. Company X clarified during a subsequent phone conversation with the Department that it had learned that a PRC pipe producer told the Department that the hot-rolled steel coils allegedly purchased from Company X were produced by non-Chinese steel mills. Id. at 1. During the telephone conversation, Company X further clarified that it had not purchased any hot-rolled steel in coils directly from foreign steel producers, nor purchased foreign-origin hot-rolled steel coils indirectly through other Chinese companies, and had not sold any hot-rolled steel coils to any PRC pipe producers involved in this investigation. Id.

After reviewing the administrative record of the proceeding, the Department concluded that Yulong was the only PRC pipe producer for which Company X's allegations could possibly be applicable. See Memorandum from Thomas Martin, International Trade Compliance Analyst, to the File, “Supporting Documentation for Market Economy Inputs Submitted to the Administrative Record,” dated concurrently with this notice.

On March 27, 2007, the Department issued a memorandum in which it provided all interested parties an opportunity to place on the record of this investigation any new factual information that is relevant to the issues raised in Company X's complaint letter or the Department's phone conversation memorandum. See Memorandum from Mark Manning, Program Manager, to the File, “Schedule of Submissions,” dated March 27, 2008. On March 28, 2008, the Department issued to Yulong a letter in which it noted that Yulong reported to the Department certain commercial invoices and other documentation pertaining to one of its suppliers of hot-rolled steel in coils. See letter from Abdelali Elouaradia, Office Director, to Yulong dated March 28, 2008. In this letter, the Department asked Yulong to comment on certain actions the Department is considering taking with respect to the documents Yulong submitted to the Department that involve this supplier.

On April 7, 2008, Yulong notified the Department that: (1) It “refuses to continue to contest the information contained in the Department's March 27, 2008, memorandum to the file;” (2) “Yulong will not participate any further in these proceedings;” and (3) “Yulong withdraws from the proceedings.” See Letter to the Hon. Carlos M. Gutierrez, Secretary of Commerce, from Jiangsu Yulong Steel Pipe Co., Ltd., dated April 7, 2008 (“Yulong Withdrawal Letter”). Yulong also stated that it has “full understanding that because of {Yulong's} lack of continued participation in these proceedings, the Department may find that Yulong has failed to cooperate to the best of its ability pursuant to section 776(b) of the Tariff Act of 1930.” Id.

In sum, the Department notes the following facts in this case: (1) Yulong received a zero margin in the Preliminary Determination; (2) Company X has alleged that a PRC pipe company involved in this investigation submitted “fake” documents to the Department; (3) Yulong has withdrawn from this investigation and stated that it does not contest the allegations made by Company X and identified in the Trading Company Memorandum; (4) in the Preliminary Determination, the Department included Yulong's zero percent preliminary margin in calculating the rate applied to the separate rate companies, and relied upon Yulong's individual sales margins in corroborating the rate assigned to the PRC-wide entity; and (5) any change to Yulong's preliminary margin will have a significant impact on all margins included in the Preliminary Determination. In light of these facts, the Department finds it necessary to issue an amended preliminary determination.

Period of Investigation

The period of investigation (“POI”) is October 1, 2006, through March 31, 2007. This period corresponds to the two most recent fiscal quarters prior to the month of the filing of the petition, i.e., June 2007. See 19 CFR 351.204(b)(1).

Scope of the Investigation

The scope of this investigation covers certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specificati on (e.g., ASTM, proprietary, or other), generally known as standard pipe and structural pipe (they may also be referred to as circular, structural, or mechanical tubing).

Specifically, the term “carbon quality” includes products in which (a) Iron predominates, by weight, over each of the other contained elements; (b) the carbon content is 2 percent or less, by weight; and (c) none of the elements listed below exceeds the quantity, by weight, as indicated:

(i) 1.80 percent of manganese;

(ii) 2.25 percent of silicon;

(iii) 1.00 percent of copper;

(iv) 0.50 percent of aluminum;

(v) 1.25 percent of chromium;

(vi) 0.30 percent of cobalt;

(vii) 0.40 percent of lead;

(viii) 1.25 percent of nickel;

(ix) 0.30 percent of tungsten;

(x) 0.15 percent of molybdenum;

(xi) 0.10 percent of niobium;

(xii) 0.41 percent of titanium;

(xiii) 0.15 percent of vanadium; or

(xiv) 0.15 percent of zirconium.

Standard pipe is made primarily to American Society for Testing and Materials (“ASTM”) specifications, but can be made to other specifications. Standard pipe is made primarily to ASTM specifications A-53, A-135, and A-795. Structural pipe is made primarily to ASTM specifications A-252 and A-500. Standard and structural pipe may also be produced to proprietary specifications rather than to industry specifications. This is often the case, for example, with fence tubing. Pipe multiple-stenciled to a standard and/or structural specification and to any other specification, such as the American Petroleum Institute (“API”) API-5L specification, is also covered by the scope of this investigation when it meets the physical description set forth above and also has one or more of the following characteristics: Is 32 feet in length or less; is less than 2.0 inches (50 mm) in outside diameter; has a galvanized and/or painted surface finish; or has a threaded and/or coupled end finish.

The scope of this investigation does not include: (a) Pipe suitable for use in boilers, superheaters, heat exchangers, condensers, refining furnaces and feedwater heaters, whether or not cold drawn; (b) mechanical tubing, whether or not cold-drawn; (c) finished electrical conduit; (d) finished scaffolding; (e) tube and pipe hollows for redrawing; (f) oil country tubular goods produced to API specifications; and (g) line pipe produced to only API specifications. The pipe products that are the subject of this investigation are currently classifiable in HTSUS statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the harmonized tariff schedule of the United States (“HTSUS”) classification, is dispositive of whether merchandise imported into the United States falls within the scope of the investigation.

Non-Market Economy Treatment

The Department considers the PRC to be a non-market economy (“NME”) country. In accordance with section 771(18)(C)(i) of the Act, any determination that a country is an NME country shall remain in effect until revoked by the administering authority. See Tapered Roller Bearings and Parts Thereof, Finished and Unfinished, From the People's Republic of China: Preliminary Results of 2001-2002 Administrative Review and Partial Rescission of Review, 68 FR 7500 (February 14, 2003), unchanged in Tapered Roller Bearings and Parts Thereof, Finished and Unfinished, from the People's Republic of China: Final Results of 2001-2002 Administrative Review and Partial Rescission of Review, 68 FR 70488 (December 18, 2003). Therefore, in this preliminary determination, we have treated the PRC as an NME country and applied our current NME methodology.

Adverse Facts Available

Sections 776(a)(1) and (2) of the Act provide that the Department shall apply “facts otherwise available” if, inter alia, necessary information is not on the record or an interested party: (A) Withholds information requested by the Department, (B) fails to provide such information by the deadline, or in the form or manner requested, (C) significantly impedes a proceeding, or (D) provides information that cannot be verified, as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits, the Department may disregard all or part of the original and subsequent responses, subject to section 782(e) of the Act, as appropriate. Pursuant to section 782(e) of the Act, the Department shall not decline to consider submitted information if all of the following requirements are met: (1) The information is submitted by the established deadline; (2) the information can be verified; (3) the information is not so incomplete that it cannot serve as a reliable basis for reaching the applicable determination; (4) the interested party has demonstrated that it acted to the best of its ability; and (5) the information can be used without undue difficulties.

On April 7, 2008, Yulong informed the Department that it would not continue participation in the instant investigation and does not contest the allegations made by Company X and identified in the Trading Company Memorandum. See Yulong Withdrawal Letter. In addition, because Yulong ceased participation in the instant investigation prior to submitting a response to the Department's March 28, 2008, request for comment concerning certain actions under consideration by the Department regarding documents Yulong submitted during this investigation, Yulong withheld information requested by the Department. Further, by not contesting the allegations made by Company X concerning a PRC pipe producer's purchases of the major input used to produce subject merchandise, as described in the Trading Company Memorandum, Yulong has significantly impeded the proceeding. In addition, by withdrawing from the investigation and no longer responding to the Department's requests for information, Yulong has prevented the Department from obtaining new information that could be used to conduct additional analyses to assess the validity of the documents Yulong submitted during the course of the investigation and during verification. For these reasons, we find that the use of facts available, pursuant to sections 776(a)(2)(A), (C), and (D) of the Act is appropriate in determining the applicable dumping margin for Yulong.

Yulong's failure to contest the information contained in the Trading Company Memorandum, where Company X alleged that a PRC pipe company submitted false documents to the Department concerning purchases of hot-rolled steel coils, calls into question the veracity of all information Yulong submitted to the record. For this reason, the Department cannot rely upon the information Yulong submitted in its factors of production database, U.S. sales database, or separate rate application, and has disregarded all such information in making this amended preliminary determination. Since the Department cannot rely upon information contained in Yulong's separate rate application, we can no longer find that Yulong operates free of government control and that it is entitled to a separate rate. For this reason, we have denied Yulong a separate rate, and find that Yulong is part of the PRC-wide entity. As part of the PRC-wide entity, the Department's application of facts available to Yulong contributes to the application of facts available applied against the PRC-wide entity, as described in the Preliminary Determination.

Section 776(b) of the Act provides that, in selecting from among the facts otherwise available, the Department may employ an adverse inference if an interested party fails to cooperate by not acting to the best of its ability to comply with requests for information. See Final Determination of Sales at Less Than Fair Value: Certain Cold-Rolled Flat-Rolled Carbon Quality Steel Products from the Russian Federation, 65 FR 5510, 5518 (February 4, 2000); Certain Welded Carbon Steel Pipes and Tubes From Thailand: Final Results of Antidumping Duty Administrative Review, 62 FR 53808, 53819-20 (October 16, 1997); Crawfish Processors Alliance v. United States, 343 F. Supp.2d 1242 (CIT 2004) (approving use of adverse facts available (“AFA”) when respondent refused to participate in verification); see also Statement of Administrative Action, accompanying the Uruguay Round Agreements Act (“URAA”), H.R. Rep. No. 103-316, 870 (1994) (“SAA”). Yulong's withdrawal from participation, its non-cooperation in submitting requested information, and its failure to contest the allegations made by Company X, constitute a failure to cooperate by not acting to the best of its ability to comply with requests for information in accordance with section 776(b) of the Act.

Section 776(b) of the Act authorizes the Department to use, as AFA, information derived from the petition, the final determination from the LTFV investigation, a previous administrative review, or any other information placed on the record. In selecting a rate for AFA, the Department selects one that is sufficiently adverse “as to effectuate the purpose of the facts available rule to induce respondents to provide the Department with complete and accurate information in a timely manner.” See Notice of Final Determination of Sales at Less Than Fair Value: Static Random Access Memory Semiconductors From Taiwan, 63 FR 8909, 8932 (February 23, 1998). It is the Department's practice to select, as AFA, the higher of the (a) highest margin alleged in the petition, or (b) the highest calculated rate for any respondent in the investigation. See Final Determination of Sales at Less Than Fair Value: Certain Cold-Rolled Flat-Rolled Carbon Quality Steel Products From the People's Republic of China, 65 FR 34660 (May 21, 2000) and accompanying Issues and Decision Memorandum, at “Facts Available”. In this case, as AFA, the Department has selected the highest margin alleged in the petition, as revised in the petitioners' supplemental responses, 85.55 percent.

Corroboration

Section 776(c) of the Act provides that, when the Department relies on secondary information in using the facts otherwise available, it must, to the extent practicable, corroborate that information from independent sources that are reasonably at its disposal. We have interpreted “corroborate” to mean that we will, to the extent practicable, examine the reliability and relevance of the information submitted. See Certain Cold-Rolled Flat-Rolled Carbon-Quality Steel Products From Brazil: Notice of Final Determination of Sales at Less Than Fair Value, 65 FR 5554, 5568 (February 4, 2000); see, e.g., Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996).

Because there are no cooperating mandatory respondents, to corroborate the 85.55 percent margin used as adverse facts available for the PRC-wide entity, to the extent appropriate information was available, we revisited our pre-initiation analysis of the adequacy and accuracy of the information in the petition. See Antidumping Investigation Initiation Checklist: Circular Welded Carbon Quality Steel Pipe from the People's Republic of China, (Initiation Checklist) (“Initiation Checklist”) (July 5, 2007). We examined evidence supporting the calculations in the petition and the supplemental information provided by the petitioners prior to initiation to determine the probative value of the margins alleged in the petition. During our pre-initiation analysis, we examined the information used as the basis of export price and NV in the petition, and the calculations used to derive the alleged margins. Also during our pre-initiation analysis, we examined information from various independent sources provided either in the petition or, based on our requests, in supplements to the petition, which corroborated key elements of the export price and NV calculations. Id. We received no comments as to the relevance or probative value of this information. Therefore, the Department finds that the rates derived from the petition for purposes of initiation have probative value for the purpose of being selected as the AFA rate assigned to the PRC-wide entity (including Yulong).

Critical Circumstances

As noted in the Preliminary Determination, on December 11, 2007, the Department preliminarily found that there is reason to believe or suspect that critical circumstances exist for imports of subject merchandise from Yulong, the separate rate companies, and the PRC-wide entity, because (A) in accordance with section 733(e)(1)(A)(i) of the Act, there is a history of dumped imports of subject merchandise and of material injury caused by such dumped imports, and (B) in accordance with section 733(e)(1)(B) of the Act, Yulong, the separate-rate companies, and the PRC-wide entity had massive imports during a relatively short period. See Memorandum from Abdelali Elouaradia, Director, Office 4, “Preliminary Affirmative Determination of Critical Circumstances,” dated December 11, 2007. Yulong, however, was not subject to suspension of liquidation at the Preliminary Determination because it received a zero percent margin. Pursuant to this amended preliminary determination, Yulong no longer has a separate rate and is part of the PRC-wide entity. Since the Department has preliminarily found that critical circumstances exist with respect to Yulong, and all other PRC exporters, the Department will instruct U.S. Customs and Border Protection (“CBP”) to suspend liquidation of all entries of CWP from the PRC for consumption produced and/or exported by Yulong, as described in the “Scope of Investigation” section, entered, or withdrawn from warehouse, on or after 90 days prior to the date of publication in the Federal Register of this amended preliminary determination. See “Suspension of Liquidation” section below.

Separate Rate Companies

In the Preliminary Determination, the Department assigned a separate rate to thirty-one exporter/producer combinations that qualified for a separate rate using the simple average of Yulong's zero percent margin and the AFA margin assigned to the PRC-wide entity. See Preliminary Determination, 73 FR at 2451. In light of Yulong's withdrawal from the investigation and the subsequent application of total AFA for Yulong (as part of the PRC-wide entity), this methodology is no longer appropriate. In cases where the estimated weighted-average margins for all individually investigated respondents are zero, de minimis, or based entirely on AFA, the Department may use any reasonable method to assign the separate rate. See section 735(c)(5)(B) of the Act. In this case, where there are no mandatory respondents receiving a calculated rate and the PRC-wide entity's rate is based upon total AFA, we find that applying the simple average of the rates alleged in the petition, incorporating revisions made in the petitioners' supplemental responses, is both reasonable and reliable for purposes of establishing a separate rate. See Final Determination of Sales at Less Than Fair Value: Sodium Hexametaphosphate From the People's Republic of China, 73 FR 6479 (February 4, 2008) and the accompanying Issues and Decision Memorandum at Comment 2. Therefore, the Department will assign a separate rate to the thirty-one exporter producer combinations using the average of the margins alleged in the petition, pursuant to its practice. This rate is corroborated, to the extent practicable, for the reasons stated above.

Preliminary Determination Margins

The Department has determined that the following preliminary dumping margins exist for the POI:

Exporter | Producer | Weighted-average margin
Beijing Sai Lin Ke Hardware Co., Ltd | Xuzhou Guang Huan Steel Tube Products Co., Ltd | 69.20
Wuxi Fastube Industry Co., Ltd | Wuxi Fastube Industry Co., Ltd | 69.20
Jiangsu Guoqiang Zinc-Plating Industrial Co., Ltd.² | Jiangsu Guoqiang Zinc-Plating Industrial Co., Ltd. | 69.20
Wuxi Eric Steel Pipe Co., Ltd | Wuxi Eric Steel Pipe Co., Ltd | 69.20
Qingdao Xiangxing Steel Pipe Co., Ltd | Qingdao Xiangxing Steel Pipe Co., Ltd | 69.20
Wah Cit Enterprises | Guangdong Walsall Steel Pipe Industrial Co., Ltd | 69.20
Guangdong Walsall Steel Pipe Industrial Co., Ltd | Guangdong Walsall Steel Pipe Industrial Co., Ltd | 69.20
Hengshui Jinghua Steel Pipe Co., Ltd | Hengshui Jinghua Steel Pipe Co., Ltd | 69.20
Zhangjiagang Zhongyuan Pipe-Making Co., Ltd | Zhangjiagang Zhongyuan Pipe-Making Co., Ltd | 69.20
Weifang East Steel Pipe Co., Ltd | Weifang East Steel Pipe Co., Ltd | 69.20
Shijiazhuang Zhongqing Imp & Exp Co., Ltd | Bazhou Zhuofa Steel Pipe Co., Ltd | 69.20
Tianjin Baolai Int'l Trade Co., Ltd | Tianjin Jinghai County Baolai Business and Industry Co., Ltd | 69.20
Wai Ming (Tianjin) Int'l Trading Co., Ltd. | Bazhou Dong Sheng Hot-dipped Galvanized Steel Pipes Co., Ltd | 69.20
Kunshan Lets Win Steel Machinery Co., Ltd | Kunshan Lets Win Steel Machinery Co., Ltd | 69.20
Shenyang Boyu M/E Co., Ltd | Bazhou Dong Sheng Hot-dipped Galvanized Steel Pipes Co., Ltd | 69.20
Dalian Brollo Steel Tubes Ltd | Dalian Brollo Steel Tubes Ltd | 69.20
Benxi Northern Pipes Co., Ltd | Benxi Northern Pipes Co., Ltd | 69.20
Shanghai Metals & Minerals Import & Export Corp | Huludao Steel Pipe Industrial Co | 69.20
Shanghai Metals & Minerals Import & Export Corp | Benxi Northern Pipes Co., Ltd | 69.20
Huludao Steel Pipe Industrial Co | Huludao Steel Pipe Industrial Co | 69.20
Tianjin Xingyuda Import & Export Co., Ltd | Tianjin Lifengyuanda Steel Group | 69.20
Tianjin Xingyuda Import & Export Co., Ltd | Tianjin Xingyunda Steel Pipe Co | 69.20
Tianjin Xingyuda Import & Export Co., Ltd | Tianjin Lituo Steel Products Co | 69.20
Tianjin Xingyuda Import & Export Co., Ltd | Tangshan Fengnan District Xinlida Steel Pipe Co., Ltd | 69.20
Jiangyin Jianye Metal Products Co., Ltd | Jiangyin Jianye Metal Products Co., Ltd | 69.20
Rizhao Xingye Import & Export Co., Ltd | Shandong Xinyuan Group Co., Ltd | 69.20
Tianjin No. 1 Steel Rolled Co., Ltd | Tianjin Hexing Steel Co., Ltd | 69.20
Tianjin No. 1 Steel Rolled Co., Ltd | Tianjin Ruitong Steel Co., Ltd | 69.20
Tianjin No. 1 Steel Rolled Co., Ltd | Tianjin Yayi Industrial Co | 69.20
Kunshan Hongyuan Machinery Manufacture Co., Ltd | Kunshan Hongyuan Machinery Manufacture Co., Ltd | 69.20
Qingdao Yongjie Import & Export Co., Ltd | Shandong Xinyuan Group Co., Ltd | 69.20
PRC-Wide Entity (Including Yulong) ³ |  | 85.55

Disclosure

In accordance with 19 CFR 351.224(b), the Department will disclose to parties to this proceeding the calculations performed in reaching the preliminary determination within five days after the date of publication of these preliminary determination.

² In the Preliminary Determination, the Department incorrectly identified Jiangsu Guoqiang Zinc-Plating Industrial Company, Ltd., as Jiangsu Guoqiang Zinc-Plating Co., Ltd. We note, however, that in the Department's subsequent instructions to CBP to suspend liquidation and require cash deposits for CWP from PRC, the Department correctly identified Jiangsu Guoqiang Zinc-Plating Industrial Company, Ltd.

³ In the Preliminary Determination, the Department also found that the Tianjin Shuangjie Group is part of the PRC-wide entity.

Suspension of Liquidation

As noted above, on December 11, 2007, the Department found that critical circumstances exist with respect to shipments of CWP from all PRC exporters. Yulong, however, was not subject to suspension of liquidation at the Preliminary Determination because it received a zero percent margin. Pursuant to this amended preliminary determination, Yulong no longer has a separate rate and is part of the PRC-wide entity. Therefore, to apply the Department's affirmative finding of critical circumstances for the PRC-wide entity to Yulong, in accordance with section 733(d) of the Act, we will instruct CBP to suspend liquidation of all entries of CWP from the PRC as described in the “Scope of Investigation” section, entered, or withdrawn from warehouse, for consumption from Yulong on or after 90 days prior to the date of publication in the Federal Register of this amended preliminary determination. We will instruct CBP to require a cash deposit or the posting of a bond equal to the weighted-average dumping margin amount by which the NV exceeds U.S. price, as follows: (1) The rate for the exporter/producer combinations listed in the chart above will be the rate we have determined in this amended preliminary determination; (2) for all PRC exporters of subject merchandise which have not received their own separate rate, including Yulong, the cash-deposit rate will be the PRC-wide rate; and (3) for all non-PRC exporters of subject merchandise which have not received their own rate, the cash-deposit rate will be the rate applicable to the PRC exporter/producer combination that supplied that non-PRC exporter. These suspension-of-liquidation instructions will remain in effect until further notice.

International Trade Commission Notification

In accordance with section 733(f) of the Act, we have notified the International Trade Commission (“ITC”) of our amended preliminary determination. If our final determination is affirmative, the ITC will make its final determination as to whether the domestic industry in the United States is materially injured, or threatened with material injury, by reason of imports of certain lined paper products, or sales (or the likelihood of sales) for importation, of the subject merchandise within 45 days of our final determination.

Public Comment

Interested parties may submit written comments (case briefs) by the close of business on the third business day after the date of signature (rather than publication) of this amended preliminary determination and rebuttal comments (rebuttal briefs), which must be limited to issues raised in the case briefs, within three business days after the deadline for filing case briefs. See 19 CFR 351.309(c)(1)(i) and 19 CFR 351.309(d). Parties are requested to limit the issues raised in their case briefs to only those issues relevant to this amended preliminary determination and not already briefed. Specifically, the Department requests that parties limit their case briefs to the following issues: (1) Whether the Department should use the facts available in reaching its determination with respect to Yulong, pursuant to Section 776(a) of the Act; (2) whether Yulong has failed to cooperate to the best of its ability, warranting the application of an adverse inference, pursuant to section 776(b) of the Act; (3) how the Department should determine any AFA rate for Yulong, what the rate should be, and corroboration of the rate, to the extent practicable, if the rate is based upon secondary information, pursuant to section 776(c) of the Act; (4) whether Yulong qualifies for a separate rate; and (5) what rate to apply to the separate rate companies and corroboration of the rate, to the extent practicable, if the rate is based upon secondary information.

Parties who submit arguments are requested to submit with the argument: (1) A statement of the issue; (2) a brief summary of the argument; and (3) a table of authorities. Further, the Department requests that parties submitting written comments provide the Department with a disk containing the public version of those comments.

This determination is issued and published in accordance with sections 733(f) and 777(i)(1) of the Act.

Dated: April 18, 2008.
David M. Spooner,
Assistant Secretary for Import Administration.

[FR Doc. E8-8953 Filed 4-23-08; 8:45 am]

BILLING CODE 3510-DS-P